DEPARTMENT OF ENERGY

Federal Energy Regulatory Commission

[Project No. 13102-003—Alabama Demopolis Lock and Dam Hydroelectric Project]

Birch Power Company; Notice of Revised Restricted Service List

Rule 2010 of the Federal Energy Regulatory Commission's (Commission) Rules of Practice and Procedure, 18 CFR section 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Alabama Historical Commission (Alabama SHPO) and the Advisory Council on Historic Preservation (Advisory Council) pursuant to the Advisory Council's regulations, 36 CFR Part 800, implementing section 106 of the National Historic Preservation Act, as amended, (16 USC section 470 f), to develop and execute a Programmatic Agreement for managing properties included in, or eligible for inclusion in, the National Register of Historic Places that could be affected by issuance of a license for the proposed Demopolis Lock and Dam Hydroelectric Project No. 13102-003.

On August 12, 2013, Commission staff established a restricted service list for the proposed Demopolis Lock and Dam Hydroelectric Project, which Commission staff revised on November 14, 2013. Since that time, the Chickasaw Nation, Coushatta Tribe of Louisiana, and the Seminole Nation of Oklahoma requested to be added to the restricted service list. The U.S. Army Corps of Engineers requested to include additional staff. The restricted service list is supplemented to include:

“LaDonna Brown, Dr. Timothy Baugh, or Representative, Chickasaw Nation, P.O. Box 1548, Ada, OK 74281.”

“Dr. Linda Langley, THPO, or Representative, Coushatta Tribe of Louisiana, P.O. Box 818, Elton, LA 70532.”

Natalie Harjo, or Representative, Seminole Nation of Oklahoma, P.O. Box 1498, Wewoka, OK 74884.”

“Michael P. Fedoroff, RPA, District Archaeologist, Brian Zettle, or Representative, U.S. Army Corps of Engineers, Mobile District, CESAM-PD-E1, 109 St. Joseph Street, Mobile, AL 36608.”

Dated: May 22, 2014.
Kimberly D. Bose,
Secretary.

[FR Doc. 2014-12880 Filed 6-3-14; 8:45 am]

BILLING CODE 6717-01-P